DEPARTMENT OF HEALTH AND HUMAN SERVICES

Substance Abuse and Mental Health Administration

Announcement of Requirements and Registration for “Continuity of Care and Follow-Up App Challenge”

AGENCY: Substance Abuse and Mental Health Administration, HHS.

ACTION: Notice.

SUMMARY: The “Continuity of Care and Follow-Up App Challenge” challenges individuals and organizations with the development of an application for a mobile handheld device that will provide continuity of care and follow-up care linkages for a person at risk for suicide who was discharged from an inpatient unit or emergency department. Proposed activities can include but are not limited to: live chatting via the National Suicide Prevention Lifeline Web site, safety planning, SMS [you need to spell this out] functionality, scheduling functionality and appointment reminders, and mapping/transportation functionality showing locations of health care resources. At a minimum, entrants must include safety planning and utilize two resources to provide users with access to services through the crisis centers within the National Suicide Prevention Lifeline and the SAMHSA treatment locator. SAMHSA is not looking for an application that simply connects a user to a crisis line via a single button, as functionality is found in a number of other suicide prevention applications. Innovation is highly encouraged.

The statutory authority for this challenge competition is Section 105 of the America COMPETES Reauthorization Act of 2010 (Pub. L. 111-358), and Title V, Section 501 of the Public Health Service Act (42 U.S.C. 290aa).

FOR FURTHER INFORMATION CONTACT: James Wright, (240) 276-1854; Richard McKeon, (240) 276-1873.

SUPPLEMENTARY INFORMATION:

Subject of Challenge Competition

The Substance Abuse and Mental Health Services Administration (SAMHSA), an operating division of the U.S. Department of Health and Human Services (DHHS), is announcing an opportunity for individuals and organizations to help solve a critical problem in today's health environment: the need for ongoing mental health follow up treatment after hospitalization or inpatient services for individuals who were suicidal. SAMHSA is seeking the development of a mobile handheld device application that will provide linkages for a person at risk for suicide who was discharged from an inpatient unit or emergency department.

Many people who attempt suicide end up in the emergency room. From 2005-2009 there was a 55 percent increase in emergency department visits for drug related suicide attempts by men age 21-34 and a 49 percent increase by women age 50 and over. While treatment at an emergency department is critical, experience and research have shown that people are still at risk after discharge. Evidence shows that the period following inpatient and emergency department discharge is one of heightened risk for suicide, particularly in the following 30 days. Approximately 10 percent of individuals who died by suicide had been discharged from an emergency department within the previous 60 days and 8.6 percent of people hospitalized for suicidal tendencies are predicted to eventually die by suicide. The problem is the lack of coordinated care transition, follow-up treatment and continued connection. Evidence shows that efforts to maintain this connection with persons at risk during a high risk period can help prevent suicidal behavior.

This challenge aligns with SAMHSA's mission to reduce the impact of substance use and mental disorders on America's communities. SAMHSA would like this to be a tool that will be utilized to connect health care providers/suicide crisis and support organizations to an at-risk individual who was recently discharged from an inpatient unit or emergency department. Functions of the application may include but are not limited to: live chatting, safety planning, SMS functionality, scheduling functionality and appointment reminders, and mapping functionality showing locations of health care resources. At a minimum, entrants must include safety planning and utilize two resources to provide contact and/or linkages to: the crisis centers within the National Suicide Prevention Lifeline via 1-800-273-TALK (8255) and the SAMHSA treatment locator. The SAMHSA treatment locator is found at http://findtreatment.samhsa.gov/.

Eligibility Rules for Participating in the Competition

To be eligible to win a prize under this challenge, an individual or entity participating in the competition (“entrant”):

(1) Shall have registered to participate in the competition under the rules promulgated by the Substance Abuse and Mental Health Administration;

(2) Shall have complied with all the requirements under this section;

(3) In the case of a private entity, shall be incorporated in and maintain a primary place of business in the United States, and in the case of an individual, whether participating singly or in a group, shall be a citizen or permanent resident of the United States;

(4) May not be a Federal entity or Federal employee acting within the scope of their employment;

(5) Shall not be an HHS employee working on their entries or submissions during assigned duty hours;

(6) Shall not be an employee of the Substance Abuse and Mental Health Administration;

(7) Must warrant that the entrant is the sole author and owner of the submission, that the submission is wholly original with this entrant (or is an improved version of an existing app that the entrant has sufficient rights to use—including the substantial improvement of existing open-source apps), and that the submission does not infringe any copyright or other third-party rights of which the entrant is aware;

(8) Must warrant that the app is free of malware;

(9) Must demonstrate compliance with Section 508 of the Rehabilitation Act (29 U.S.C. 794d);

(10) Must not use the HHS logo, symbol, or seal, or any SAMHSA logo, and must not claim endorsement by HHS or SAMHSA;

(11) Must submit the object and source code of the app, as well as a detailed description of the app, including at least (i) instructions on how to install and operate the app, (ii) system requirements for running the app, and (iii) a user's manual or guide. Entrants may submit additional software documentation, if they believe it provides a more complete description of the app, as part of the app submission; and

(12) Must provide SAMHSA with continuous access to the app during the judging period defined above.

An app submission may be disqualified if, in SAMHSA's sole judgment, (i) the app fails to function as expressed in the detailed description, (ii) the detailed description is significantly inaccurate or incomplete, or (iii) malware or other security threats are present. Entrants agree that SAMHSA may conduct testing on the app to determine whether malware or other security threats may be present such that they may damage the equipment or operating environments of the Federal Government or those acting on its behalf.

Federal grantees may not use Federal funds to develop COMPETES Act challenge applications unless consistent with the purpose of their grant award.

Federal contractors may not use Federal funds from a contract to develop COMPETES Act challenge applications or to fund efforts in support of a COMPETES Act challenge submission.

Registered entrants shall be required to agree to assume any and all risks and waive claims against the Federal Government and its related entities for any injury, death, damage, or loss of property, revenue, or profits, whether direct, indirect, or consequential, arising from their participation in a competition, whether the injury, death, damage, or loss arises through negligence or otherwise.

All entrants are required to provide written assurance to comply with the challenge rules and abide by SAMHSA's and the judging panel's decisions upon or before submitting an entry. Applicable Federal law will apply to all disputes arising from this challenge.

DATES:

Submission Period Begins: June 03, 2013.

Submission Period Ends: August 09, 2013.

Judging Period begins: August 12, 2013.

Judging Period ends: August 23, 2013.

Registration Process for Entrants

To register for this challenge entrants should:

• Access the www.challenge.gov Web site and search for the “Continuity of Care and Follow-Up App Challenge”.

○ A registration link for the challenge can be found on the landing page under the challenge description.

Prize

• First Prize: $50,000

• Second Prize: $30,000

• Third Prize: $20,000

Awards may be subject to Federal income taxes and HHS will comply with IRS withholding and reporting requirements, where applicable.

Winner Selection and Judging

Following the deadline for submissions, a panel will judge the entries for accuracy of the information presented and compliance with the challenge requirements described above. The panel of expert judges will choose the top seven entries submitted. The panel will then select the top three winners from these seven entries. There will be one grand prize award of $50,000 and two additional awards of $30,000 and $20,000 given to winning entrants. The expert panel of judges, qualified by training and experience, will evaluate the submissions on the criteria identified below. Judges will be fair and impartial, may not have a personal or financial interest in, or be an employee, officer, director, or agent of, any entity that is a registered participant in the competition, and may not have a familial or financial relationship with an individual who is a registered contestant. The panel will provide expert advice on the merits of each submission to SAMHSA officials responsible for final selections for award. Awardees will be notified on or around September 01, 2013.

Panel:

(1) James Wright, M.S., LCPC, Public Health Advisor, CMHS, Suicide Prevention Branch, SAMHSA.

(2) Ashley Womble, Online Communications Manager, National Suicide Prevention Lifeline.

(3) Maureen Boyle, Team Lead, Health Information Technology, CSAT, Division of State and Community Assistance, SAMHSA.

The Administrator of SAMHSA will make the final decision based on the top seven entries.

Basis Upon Which Winners Will Be Selected

The judging panel will make selections based upon the following criteria (100 points total):

1. Ease in which a user can navigate different mobile device interfaces (20 points).

2. Ability to initiate and sustain relevant information according to user need and location (20 points).

3. Demonstration of creative and innovative uses of multiple platforms over mobile devices (20 points).

4. Impact on suicide prevention: Each entry will be rated on the strength of its perceived potential to help individuals identified at risk of suicide during emergency room or psychiatric facility discharge link to outpatient treatment or immediate help. Examples of potential strengths will include, but are not limited to: the likelihood of increased usage of application, use of safety planning to maintain safety, and potential for multiple successful connections with mental health, substance abuse and Lifeline crisis center services. (40 points).

Entrants will be expected to demonstrate in real time the functional features of their apps to assist the judging panel's evaluations according to the selection criteria. Demonstrations must be accomplished remotely during this designated time during the judging period.

Additional Information

Intellectual Property Rights

▪ All entries are required to be submitted under a Creative Commons license that permits adaptations and commercial uses but does not require share-alike distribution (e.g., CC Attribution 3.0). Details about CreativeCommons licenses can be found at http://creativecommons.org.

▪ Each entrant hereby irrevocably grants to the Federal Government and those acting on its behalf a nonexclusive, paid-up, irrevocable license to practice or have practiced for or on behalf of the United States any invention throughout the world that, if patented, would cover the app submission or its use.

▪ Each entrant hereby acknowledges that SAMHSA has the right to distribute the software (source and object code) under the Creative Commons license used to transfer the software to SAMSHA and under SAMSHA's own trademark or service mark. SAMSHA agrees to include the license notice required by the Creative Commons license with each copy.

Authority: 15 U.S.C. 3719.

Summer King,
Statistician, Substance Abuse and Mental Health Administration.

[FR Doc. 2013-13018 Filed 5-31-13; 8:45 am]

BILLING CODE P